DEPARTMENT OF TRANSPORTATION

Federal Aviation Administration

[FAA-2020-0488]

Agency Information Collection Activities: Requests for Comments; Clearance of New Approval of Information Collection: Survey of Unmanned-Aircraft-Systems Operators

AGENCY: Federal Aviation Administration (FAA), DOT.

ACTION: Notice and request for comments.

SUMMARY: In accordance with the Paperwork Reduction Act of 1995, FAA invites public comments about our intention to request the Office of Management and Budget (OMB) approval a new information collection. The Federal Register Notice with a 60-day comment period soliciting comments on the following collection of information was published on May 12, 2020. The collection is a survey of unmanned aircraft systems (UAS) operator who are registered with the FAA under part 107 and section 349. The information to be collected will be used to prepare and plan for the integration of UAS into the national airspace system (NAS), as required by Section 376 under the FAA Reauthorizations Act of 2018.

DATES: Written comments should be submitted by October 12, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: William G. Ekins by email at: William.g.ekins@faa.gov; phone: 202-267-4735.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-.

Title: Survey of Unmanned-Aircraft-Systems Operators.

Form Numbers: N/A.

Type of Review: new information collection.

Background: The Federal Register Notice with a 60-day comment period soliciting comments on the following collection of information was published on May 12, 2020 (2020-10139). The FAA Reauthorizations Act of 2018 explicitly charges the FAA with developing a plan to implement a UAS traffic management (UTM) services. The development of this congressionally mandated plan requires an estimation of current activity by UAS operators and projecting this behavior into the future as economic, technology, and regulatory condition change. Given the lack of available data on the flight behavior of UAS operators, the FAA proposes a survey of UAS operators who have registered with the FAA under Section 349 or Part 107.

Survey consists of a voluntary questionnaire administered online. Registrants within the FAA's UAS registry under Part 107 and Section 349 are invited to complete the online questionnaire via email. The email contains a personalized link to the questionnaire hosted by Survey Monkey. The questionnaire contains:

6 questions on general flight behavior,

4 questions about the number and types of UAS operated,

6 questions for respondents who identity as commercial operators, and

7 questions for respondents who identify as operating for public safety agencies.

Including a social-media preference and self-identifying questions, the questionnaire contains a total 25 question. However, the majority of respondents will only answer the first 12 questions.

The data obtained from the survey will be used to develop national forecasts of UAS activity. Summary data from the proposed survey will be included in the Aviation Forecast published annually by the FAA.

Given this Information Collection Request is for a new survey, three post-survey studies are included in survey design: A request for comments on questions within the questionnaire, post-survey study of non-response bias, and a post-survey study of sampling bias. Each of these follow-up studies have questionnaires as instruments. These studies are used to hone the survey design.

The main questionnaire is expected to place 10,881 hours of burden on the public while the remainder of the post-survey studies require 23,165 hours.

Respondents: UAS operators registered with the FAA under Part 107 or Section 349.

Frequency: Annually.

Estimated Average Burden per Response: 5.3 minutes on average.

Estimated Total Annual Burden: 34,026 hours.

Issued in Washington, DC, on September 10, 2020.
Michael Lukacs,
Deputy Division Manager, Office of Aviation Policy and Plans, APO-100, Federal Aviation Administration, Department of Transportation.

[FR Doc. 2020-20301 Filed 9-14-20; 8:45 am]

BILLING CODE 4910-13-P